ENVIRONMENTAL PROTECTION AGENCY

40 CFR Part 180

[OPP-2004-0154; FRL-7682-5]

Bromoxynil, Diclofop-methyl, Dicofol, Diquat, Etridiazole, et al., Proposed Tolerance Actions; Extension of Comment Period

AGENCY: Environmental Protection Agency (EPA).

ACTION: Proposed rule; extension of comment period.

SUMMARY: EPA issued a proposed rule in the Federal Register of August 4, 2004, announcing proposed tolerance actions and providing a 60-day public comment period that ends October 4, 2004. This document extends the comment period from October 4, 2004 to October 18, 2004.

DATES: Comments, identified by the docket identification (ID) number OPP-2004-0154, must be received on or before October 18, 2004.

ADDRESSES: Follow the detailed instructions as provided under ADDRESSES in the Federal Register document of August 4, intentified by docket ID number OPP-2004-0154.

FOR FURTHER INFORMATION CONTACT: Joseph Nevola, Special Review and Reregistration Division (7508C), Office of Pesticide Programs, Environmental Protection Agency, 1200 Pennsylvania Ave, NW., Washington, DC 20460-0001; telephone number: (703) 308-8037; e-mail address: nevola.joseph@epa.gov.

SUPPLEMENTARY INFORMATION:

I. General Information

A. Does this Action Apply to Me?

In the proposed rule of August 4, 2004 (69 FR 47051) (FRL-7368-7), the Agency included a list of those who may be potentially affected by this action. If you have any questions regarding the applicability of this action to a particular entity, consult the person listed under FOR FURTHER INFORMATION CONTACT.

B. How Can I Access Electronic Copies of this Document and Other Related Information?

In addition to using EDOCKET (http://www.epa.gov/edocket/), you may access this Federal Register document electronically through the EPA Internet under the “Federal Register” listings at http://www.epa.gov/fedrgstr/. A frequently updated electronic version of 40 CFR part 180 is available at E-CFR Beta Site Two at http://www.gpoaccess.gov/ecfr/.

II. What Action is EPA taking?

This document extends the public comment period established in the Federal Register proposed rule issued on August 4, 2004 (69 FR 47051). In that document, EPA sought comment on a rule which proposed to revoke, remove, modify, and establish tolerances, and revise tolerance commodity terminologies. Recently, the Agency received a request from the U.S. Department of Commerce on behalf of the People's Republic of China to extend the public comment period for a brief period of time. EPA is hereby extending the public comment period for the proposed rule of August 4, 2004, identified by docket ID number OPP-2004-0154, from October 4, 2004, to October 18, 2004.

List of Subjects in 40 CFR Part 180

Environmental protection, Administrative practice and procedure, Agricultural commodities, Pesticides and pests, Reporting and recordkeeping requirements.

Dated: September 27, 2004.
James Jones,
Director, Office of Pesticide Programs.

[FR Doc. 04-22474 Filed 10-1-04; 4:31 pm]

BILLING CODE 6560-50-S